FEDERAL DEPOSIT INSURANCE CORPORATION

Notice of Agency Meeting

Pursuant to the provisions of the “Government in the Sunshine Act” (5 U.S.C. 552b), notice is hereby given that the Federal Deposit Insurance Corporation's Board of Directors will meet in open session at 10 a.m. on Tuesday, April 15, 2008, to consider the following matters:

Summary Agenda: No substantive discussion of the following items is anticipated. These matters will be resolved with a single vote unless a member of the Board of Directors requests that an item be moved to the discussion agenda.

Disposition of minutes of previous Board of Directors' meetings.

Summary reports, status reports, and reports of actions taken pursuant to authority delegated by the Board of Directors.

Memorandum and resolution re: Amendments to the Guidelines for Appeals of Material Supervisory Determinations.

Discussion Agenda:

Update on the Basel II Standardized Approach.

Memorandum and resolution re: Interim Final Covered Bond Policy Statement.

The meeting will be held in the Board Room on the sixth floor of the FDIC Building located at 550 17th Street, NW., Washington, DC.

This Board meeting will be Webcast live via the Internet at: http://www.vodium.com/goto/fdic/boardmeetings.asp. This service is free and available to anyone with the following systems requirements: http://www.vodium.com/home/sysreq.html (http://www.vodium.com). Adobe Flash Player is required to view these presentations. The latest version of Adobe Flash Player can be downloaded at http://www.macromedia.com/go/getflashplayer. Installation questions or troubleshooting help can be found at the same link. For optimal viewing, a high speed internet connection is recommended. The Board meetings videos are made available on-demand approximately one week after the event.

The FDIC will provide attendees with auxiliary aids (e.g., sign language interpretation) required for this meeting. Those attendees needing such assistance should call (703) 562-6067 (Voice or TTY), to make necessary arrangements.

Requests for further information concerning the meeting may be directed to Mr. Robert E. Feldman, Executive Secretary of the Corporation, at (202) 898-7122.

Dated: April 8, 2008.
Federal Deposit Insurance Corporation.
Robert E. Feldman,
Executive Secretary.

[FR Doc. E8-7851 Filed 4-11-08; 8:45 am]

BILLING CODE 6714-01-P